DEPARTMENT OF AGRICULTURE

Agricultural Marketing Service

7 CFR Part 59

[Doc. No. AMS-LS-10-0080]

Notice of Establishment of the Wholesale Pork Reporting Negotiated Rulemaking Committee; Notice of Meeting

AGENCY: Agricultural Marketing Service, USDA.

ACTION: Establishment of Advisory Committee and notice of meeting.

SUMMARY: As required by section 564 of the Negotiated Rulemaking Act, the Department of Agriculture (USDA), Agricultural Marketing Service (AMS) is giving notice of the establishment of the Wholesale Pork Reporting Negotiated Rulemaking Committee (Committee) to develop proposed language to amend the Livestock Mandatory Reporting regulations to implement mandatory pork price reporting. USDA has determined that the establishment of this Committee is in the public interest and will assist AMS in performing its duties under the Mandatory Price Reporting Act of 2010 (2010 Reauthorization Act) (Pub. L. 111-239). This document also announces the first meeting of the Committee.

DATES: The committee meeting will be held Tuesday, February 8, 2011, through Thursday, February 10, 2011. On all three days, the meeting will begin at 8:30 a.m. and is scheduled to end at 5 p.m.

ADDRESSES: The meeting will take place at the Sheraton Clayton Plaza Hotel, 7730 Bonhomme Avenue, St. Louis, Missouri 63105; Phone (314) 863-0400.

FOR FURTHER INFORMATION CONTACT: Michael Lynch, Chief; USDA, AMS, LS, LGMN Branch; 1400 Independence Ave., SW., Room 2619-S; Washington, DC 20250; Phone (202) 720-6231; Fax (202) 690-3732; or e-mail at Michael.Lynch@ams.usda.gov.

SUPPLEMENTARY INFORMATION:

I. Background

On November 24, 2010, AMS published a notice of intent to establish a Wholesale Pork Reporting Negotiated Rulemaking Committee (75 FR 71568). In that notice, AMS requested comments on the establishment of the Committee and nominations from any interested party that desired membership on the Committee. AMS received 7 comments, which all focused on membership on the Committee.

Two of the comments were from organizations identified by AMS in the original Notice (75 FR 71568) as being potential Committee members. Both organizations, the National Meat Association (NMA) and the American Meat Institute (AMI), confirmed their participation on the Committee and requested multiple seats to represent their interests. While the Negotiated Rulemaking Act (NRA) [5 U.S.C. 561-570] does not specifically prohibit one organization from having multiple seats on a negotiated rulemaking committee, AMS believes this Committee will best function with each organization having one representative. While AMS recognizes that organizations such as AMI and NMA have diverse membership, AMS believes that the interests of each organization's members can be adequately represented on the Committee by one seat. It should be noted that each organization represented on the Committee may be accompanied by other individuals serving in an advisory capacity to assist the representative in effectively negotiating on behalf of all the interests of its organization. In addition, AMS believes that diversity of the Committee membership as a whole ensures that all interested parties in this matter are represented. Finally, Committee meetings will be open to the public and time will be allotted for public comment on Committee proceedings.

Four comments were from organizations that were not identified in the original Notice, but were responding to the Agency's request for nominations from other organizations who believed their interests could be affected by mandatory pork reporting. One of these comments was jointly submitted by the North American Meat Processors Association (NAMP), the American Association of Meat Processors (AAMP), and the Southeastern Meat Association (SEMA) and requested one seat on the Committee to represent all three organizations. AAMP submitted a separate comment to the same effect. AMS believes a joint representative from NAMP, AAMP, and SEMA will provide valuable input on the Committee, and has sufficient interest in the processing of pork. Therefore, they will have one member on the Committee. Another organization, the National Livestock Producers Association, also submitted a comment requesting a seat on the Committee. AMS believes NLPA membership has sufficient interest as swine producers, and therefore will be represented on the Committee. Lastly, one comment was received from the United Food and Commercial Workers International Union (UFCW). UFCW stated in its petition that a substantial number of its members are employed in the food processing and retail sectors and depend on their plants and stores receiving an adequate supply of pork at a fair price. AMS believes that UFCW's members have interest in the production of swine or pork; therefore, UFCW will have a member on the Committee.

In addition, one comment requested that half of the Committee members be consumer representatives. However, consumers do not participate in swine or pork production, nor any of the other categories or organizations listed in the 2010 Reauthorization Act. Therefore, this request is denied.

Two organizations—the American Farm Bureau Federation and the American Frozen Foods Institute—that were identified by AMS in the original Notice declined to participate on the Committee without comment.

USDA believes that using a negotiated rulemaking committee to make specific recommendations regarding the implementation of a mandatory wholesale pork reporting program would help the agency in developing rulemaking. Therefore, USDA is establishing the Wholesale Pork Reporting Negotiated Rulemaking Committee.

II. Statutory Provisions

The Negotiated Rulemaking Act of 1996 (NRA) (5 U.S.C. 561-570); the Mandatory Price Reporting Act of 2010 (Pub. L. 111-239); the Livestock Mandatory Reporting Act of 1999 (7 U.S.C. 1635-1636i); and 7 CFR part 59.

III. The Committee and Its Process

In a negotiated rulemaking, a proposed rule is developed by a committee composed of representatives of government and the interests that will be significantly affected by the rule. Decisions are made by “consensus.” For the purpose of this Committee's proceedings, “consensus” has been statutorily defined in the NRA as unanimous concurrence among the interests represented unless the Committee agrees to a different definition.

The negotiated rulemaking process is initiated by the Agency's identification of interests potentially affected by the rulemaking under consideration. To facilitate the process of identifying Committee members in accordance with guidelines established by the 2010 Reauthorization Act, AMS proposed a list of organizations to serve on the Committee to adequately represent the stakeholders affected by mandatory pork reporting. AMS also requested additional nominations from organizations or individuals whose interests would not adequately be represented by the list of organizations it identified.

IV. Membership of the Committee

AMS believes that the interests significantly affected by this rule will be represented by the organizations listed below:

American Meat Institute;

Chicago Mercantile Exchange;

Food Marketing Institute;

Grocery Manufacturers Association;

Livestock Marketing Information Center;

National Farmers Union;

National Livestock Producers Association;

National Meat Association;

National Pork Producers Council;

North American Meat Processors Association, American Association of Meat Processors, and Southeastern Meat Association (1 combined representative for all three per organizations' request);

United Food and Commercial Workers International Union; and

USDA, Agricultural Marketing Service.

V. Negotiated Rulemaking Committee Meeting

This document announces the first meeting of the Committee. The meeting will take place as described in the DATES and ADDRESSES sections of this notice. The agenda planned for the meeting includes the discussion of protocols, timeframes, and scope of the rulemaking process, as well as setting of future meetings. The meeting will be open to the public without advance registration. Public attendance may be limited to the space available. Members of the public will be given opportunities to make statements during the meeting at the discretion of the Committee, and will be able to file written statements with the Committee for its consideration. Written statements may be submitted in advance to the address listed in the FOR FURTHER INFORMATION CONTACT section of this document. Notice of future meetings will be announced in the Federal Register.

Certification

I hereby certify that the Wholesale Pork Reporting Negotiated Rulemaking Committee is in the public interest.

Dated: January 21, 2011.
David R. Shipman,
Associate Administrator, Agricultural Marketing Service.

[FR Doc. 2011-1647 Filed 1-25-11; 8:45 am]

BILLING CODE 3410-02-P